DEPARTMENT OF COMMERCE

National Oceanic and Atmospheric Administration

RIN 0648-XP41

Caribbean Fishery Management Council; Public Meeting

s

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on June 23-24, 2009. The Council will convene on Tuesday, June 23, 2009, from 9 a.m. to 5 p.m., and the Administrative Committee will meet from 5:15 p.m. to 6 p.m. They will reconvene on Wednesday, June 24, from 9 a.m. to 5 p.m.

ADDRESSES: The meetings will be held at the Carambola Beach Resort and Spa, located at Estate Davis Bay, St. Croix, U.S.V.I.

FOR FURTHER INFORMATION CONTACT: Caribbean Fishery Management Council, 268 Munoz Rivera Avenue, Suite 1108, San Juan, Puerto Rico 00918-1920, telephone: (787) 766-5926.

SUPPLEMENTARY INFORMATION: The Council will hold its 131st regular Council Meeting to discuss the items contained in the following agenda:

June 23, 2009 - 9 a.m. to 5 p.m.

•Call to Order

•Adoption of Agenda

•Consideration of the 130th Council Meeting Verbatim Transcription

•Executive Director's Report

•Bajo de Sico Public Hearings Report and Final Action

•ACLs/AMs Scoping Meetings Report

June 23, 2009 - 5:15 p.m. to 6 p.m.

•Administrative Committee Meeting

-AP/SSC/HAP Membership

-Budget

-FY 2009

- New Grants Rules

-Budget Petition: 5-years (2010-14)

-SOPPs Amendment(s)

-Other Business

June 24, 2009, 9 a.m. to 5 p.m.

•ACLs/AMs Scoping Meetings Report (Cont.)

•Queen Conch Fishery Issues

-Request for Emergency Action from DPNR

-Potential Interim Rule Request

•Administrative Committee Recommendations

•Other Business

-Enforcement and Meeting Attended by CFMC Members and Staff Reports

(These reports will be postponed for the next meeting in August, if there is no time on June 24, 2009.)

•Next Council Meeting

The established times for addressing items on the agenda may be adjusted as necessary to accommodate the timely completion of discussion relevant to the agenda items. To further accommodate discussion and completion of all items on the agenda, the meeting may be extended from, or completed prior to the date established in this notice.

The meetings are open to the public, and will be conducted in English. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolon, Executive Director, Caribbean Fishery Management Council, 268 Munoz Rivera Avenue, Suite 1108, San Juan, Puerto Rico 00918-1920; telephone: (787) 766-5926, at least 5 days prior to the meeting date.

Dated: May 19, 2009.
Tracey L. Thompson,
Acting Director, Office of Sustainable Fisheries, National Marine Fisheries Service.

[FR Doc. E9-12044 Filed 5-22-09; 8:45 am]

BILLING CODE 3510-22-S